NATIONAL SCIENCE FOUNDATION

Committee on Equal Opportunities in Science and Engineering (CEOSE); Notice of Meeting

In accordance with the Federal Advisory Committee Act (Pub. L. 92-463, as amended), the National Science Foundation announces the following meeting:

Name: Committee on Equal Opportunities in Science and Engineering (1173).

Dates/Time: June 16, 2008, 8:30 a.m.-5:30 p.m. and June 17, 2008, 8:30 a.m.-2 p.m.

Place: National Science Foundation (NSF), 4201 Wilson Boulevard, Arlington, VA 22230.

Building entry badges must be obtained at the above address; the meeting will be held in Room 1235 of the National Science Foundation Building located at 4201 Wilson Boulevard in Arlington, Virginia.

Type of Meeting: Open.

Contact Person: Dr. Margaret E.M. Tolber, Senior Advisor and Executive Liaison, CEOSE Office of Integrative Activities, National Science Foundation, 4201 Wilson Boulevard, Arlington, VA 22230. Telephone Number: (703) 292-8040. mtolbert@nsf.gov.

Minutes: May be obtained from the Executive Liaison at the above address.

Purpose of Meeting: To provide advice and recommendations concerning broadening participation in science and engineering.

Agenda

Monday, June 16, 2008

Welcome and Opening Statement by the CEOSE Chair

Introductions

Presentations and Discussions:

✓ The American Community Survey

✓ Reports on NSF Advisory Committee Meetings by CEOSE Liaisons

✓ Broadening Participation in the CISE (Computer and Information Science and Engineering) Community

✓ Concurrent Meetings of the CEOSE Ad Hoc Subcommittees

✓ Discussion with the Director of the National Science Foundation

✓ Report of the CEOSE Ad Hoc Subcommittee on Accountability, Evaluation, and Communications

✓ Report of the CEOSE Ad Hoc Subcommittee on Broadening Participation

Tuesday, June 17, 2008

Opening Statement by the CEOSE Chair

Presentations and Discussions:

✓ Report of the CEOSE Ad Hoc Subcommittee on Strategic Planning

✓ Broadening Participation: Selected Programs of the NSF Directorate for Education and Human Resources

✓ The NSF Broadening Participation Report

✓ The Legal History of CEOSE

✓ Completion of Unfinished Business

Dated: May 20, 2008.
Susanne Bolton,
Committee Management Officer.

[FR Doc. E8-11553 Filed 5-22-08; 8:45 am]

BILLING CODE 7555-01-P